DEPARTMENT OF TRANSPORTATION

Federal Aviation Administration

Notice of Intent To Request Revision From the Office of Management and Budget of a Currently Approved Information Collection Activity, Request for Comments; Changes in Permissible Stage 2 Airplane Operations

AGENCY: Federal Aviation Administration (FAA), DOT.

ACTION: Notice and request for comments.

SUMMARY: This information is used to issue special flight authorizations for non-revenue operations of Stage 2 airplanes at U.S. airports.

DATES: Please submit comments by April 3, 2009.

FOR FURTHER INFORMATION CONTACT: Carla Mauney on (202) 267-9895, or by e-mail at: Carla.Mauney@faa.gov.

SUPPLEMENTARY INFORMATION:

Federal Aviation Administration (FAA)

Title: Changes in Permissible Stage 2 Airplane Operations.

Type of Request: Extension without change of an approved collection.

OMB Control Number: 2120-0652.

Form(s): There are no FAA forms associated with this collection.

Affected Public: A total of 50 Respondents.

Frequency: The information is collected on occasion.

Estimated Average Burden per Response: Approximately 14.4 minutes per response.

Estimated Annual Burden Hours: An estimated 12 hours annually.

Abstract: This information is used to issue special flight authorizations for non-revenue operations of Stage 2 airplanes at U.S. airports. Only a minimal amount of data is requested to identify the affected parties and determine whether the purpose for the flight is one of those enumerated by law.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on January 26, 2009.
Carla Mauney,
FAA Information Collection Clearance Officer, IT Enterprises Business Services Division, AES-200.

[FR Doc. E9-1987 Filed 1-30-09; 8:45 am]

BILLING CODE 4910-13-M